DEPARTMENT OF DEFENSE

Department of the Navy

[No. USN-2007-0048]

Submission for OMB Review; Comment Request

ACTION: Notice.

The Department of Defense has submitted to OMB for clearance, the following proposal for collection of information under the provisions of the Paperwork Reduction Act (44 U.S.C. Chapter 35).

DATES: Consideration will be given to all comments received by April 2, 2008.

Title, Form, and OMB Number: Mental Health Issues Among Deployed Personnel: Longitudinal Assessment of the Resilience of Deployed Sailors and Marines—Follow-up; OMB Control Number 0703-TBD.

Type of Request: New.

Number of Respondents: 3,700.

Responses Per Respondent: 1.

Annual Responses: 3,700.

Average Burden Per Response: 1 hour.

Annual Burden Hours: 3,700.

Needs and Uses: The proposed study builds on an existing study assessing the prevalence of mental health outcomes among Sailors and Marines transitioning from the Service, and identifying predictors of and changes in mental health and resilience over time. DoD regulations stipulate that all military personnel must receive pre-separation counseling no less than 90 days before leaving active duty. Enlisted Sailors and Marines attending Transition Assistance Program (TAP) workshops were invited to participate in the current research. As part of the baseline component, TAP enrollees were surveyed at 12 installations (8 Navy and 4 Marine Corps) during the Summer—Fall 2007 time frame until the target sample size (N = 6000; 3000 in each Service) was obtained. Those respondents with high combat exposure will be assessed through a follow-on survey 6 months after separation from Military service, when participants have transitioned into civilian life.

Affected Public: Individuals or households.

Frequency: On occasion.

Respondent's Obligation: Voluntary.

OMB Desk Officer: Mr. John Kraemer.

Written comments and recommendations on the proposed information collection should be sent to Mr. Kraemer at the Office of Management and Budget, Desk Officer for DoD Health, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DoD Clearance Officer: Ms. Patricia Toppings.

Written requests for copies of the information collection proposal should be sent to Ms. Toppings at WHS/ESD/Information Management Division, 1777 North Kent Street, RPN, Suite 11000, Arlington, VA 22209-2133.

Dated: February 25, 2008.
Patricia L. Toppings,
Alternate OSD Federal Register Liaison Officer, Department of Defense.

[FR Doc. E8-4002 Filed 2-29-08; 8:45 am]

BILLING CODE 5001-06-P